DEPARTMENT OF COMMERCE

National Oceanic and Atmospheric Administration

[RTID 0648-XA474]

North Pacific Fishery Management Council; Public Meeting

AGENCY: National Marine Fisheries Service (NMFS), National Oceanic and Atmospheric Administration (NOAA), Commerce.

ACTION: Notice of public meetings.

SUMMARY: The North Pacific Fishery Management Council (Council) and the Advisory Panel will meet via webconference October 2, 2020 through October 16, 2020.

DATES: The Council's Advisory Panel (AP) will begin at 8 a.m. on Monday, October 5, 2020 and continue through Friday, October 9, 2020. The Council will meet on Friday, October 2, 2020, from 1 p.m. to 4 p.m., on Friday, October 9, 2020, from 8 a.m. to 4 p.m., and from 8 a.m. on Monday, October 12, 2020 through Friday, October 16, 2020, Alaska Time.

ADDRESSES: The meeting will be a webconference. Join online through the link at https://meetings.npfmc.org/Meeting/Details/1565.

Council address: North Pacific Fishery Management Council, 1007 W 3rd Ave., Anchorage, AK 99501-2252; telephone: (907) 271-2809. Instructions for attending the meeting via webconference are given under SUPPLEMENTARY INFORMATION Connection Information, below.

FOR FURTHER INFORMATION CONTACT: Diana Evans, Council staff; email: diana.evans@noaa.gov; telephone: (907) 271-2809. For technical support please contact our administrative staff, email: npfmc.admin@noaa.gov.

SUPPLEMENTARY INFORMATION:

Agenda

Monday, October 5, 2020 Through Friday, October 9, 2020

The Advisory Panel agenda will include the following issues:

Bering Sea Aleutian Islands (BSAI) and Gulf of Alaska (GOA) Groundfish Harvest—Proposed Specifications, Plan Team (PT) Reports

Sculpin/Squid Product Types—Final Action

Cook Inlet Salmon Fishery Management Plan (FMP)—Intial Review

Observer 2021 Annual Deployment Plan (ADP) Plan—Review, Partial Coverage Fishery Monitory Advisory Committee (PCFMAC) Report, Trawl Electronic Monitoring (EM) Report

BSAI Halibut Abundance Based Management (ABM)—Initial Review and Discussion Paper

Survey Planning—Alaska Fishery Science Center (AFSC) Report

Staff Tasking

Friday, October 2, 2020

The Council agenda will include the following issue. The Council may take appropriate action on any of the issues identified.

BSAI Crab 4 Stocks—Final Specifications, Crab Plan Team Report

Friday, October 9, 2020

The Council agenda will include the following issues. The Council may take appropriate action on any of the issues identified.

All B Reports (Executive Director), NMFS Management, NOAA General Counsel (GC), Alaska Department of Fish and Game (ADF&G), U.S. Coast Guard, and U.S. Fish and Wildlife Service

Scientific and Statistical Committee (SSC) Report in Full

AP Report on BSAI and GOA Groundfish Harvest and Sculpin/Squid Types

BSAI and GOA Groundfish Harvest—Proposed Specifications, PT Reports

Sculpin/Squid Product Types—Final Action

Monday, October 12, 2020 Through Friday, October 16, 2020

The Council agenda will include the following issues. The Council may take appropriate action on any of the issues identified.

AP Report in Full

Cook Inlet Salmon FMP—Intial Review

Observer 2021 ADP Plan—Review, PCFMAC Report, Trawl EM Report

BSAI Halibut ABM—Initial Review and Discussion Paper

Survey Planning—AFSC Report

Seafood Production Executive Order

Committees, New Business, Tasking—Review

Connection Information

You can attend the meeting online using a computer, tablet, or smart phone; or by phone only. Connection information will be posted online at: https://meetings.npfmc.org/Meeting/Details/1565. For technical support please contact our administrative staff, email: npfmc.admin@noaa.gov.

Public Comment

Public comment letters will be accepted and should be submitted electronically to: https://meetings.npfmc.org/Meeting/Details/1565. The Council strongly encourages written public comment for this meeting, to avoid any potential for technical difficulties to compromise oral testimony. The deadline for written comments is September 30, 2020, at 5 p.m. Alaska Time.

Authority: 16 U.S.C. 1801 et seq.

Dated: September 11, 2020.
Rey Israel Marquez,
Acting Deputy Director, Office of Sustainable Fisheries, National Marine Fisheries Service.

[FR Doc. 2020-20429 Filed 9-15-20; 8:45 am]

BILLING CODE 3510-22-P